DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act (44 U.S.C. Chapter 35) and 5 CFR 1320.05. The following are those information collections recently submitted to OMB.

1. Surveys of SCHIP Enrollees and Disenrollees for the Congressionally Mandated Evaluation of the State Children's Health Insurance Program—NEW—As part of the evaluation of the State Children's Health Insurance Program (SCHIP), the Office of the Assistant Secretary for Planning and Evaluation is proposing to conduct surveys about children currently and previously covered by the program. These surveys, to be conducted in ten states, will provide detailed description of the children's characteristics, their movement in and out of the program, access to care, service use and experiences with the program. A supplemental survey about Medicaid children will be conducted in two states. Respondents: individuals or households; Burden Information for SCHIP Survey—Number of Respondents: 18,000; Frequency of Response: once; Average Burden per Response: .59 hours; Burden for SCHIP Survey: 10,620 hours—Burden Information for Medicaid Survey—Number of Respondents: 3,600; Frequency of Response: once; Average Burden per Response: .59 hours; Burden for Medicaid Survey: 2,124 hours—Total Burden—12,744 hours.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington, DC 20201. Written comments should be received within 30 days of this notice.

Dated: October 16, 2001.
Kerry Weems,
Acting Deputy Assistant Secretary, Budget.

[FR Doc. 01-26758 Filed 10-23-01; 8:45 am]

BILLING CODE 4154-05-M